DEPARTMENT OF TRANSPORTATION

Federal Highway Administration

23 CFR Part 924

[Docket No. FHWA-2023-0045]

RIN 2125-AG07

Highway Safety Improvement Program

AGENCY: Federal Highway Administration (FHWA), U.S. Department of Transportation (DOT).

ACTION: Notice of proposed rulemaking.

SUMMARY: The purpose of this notice of proposed rulemaking (NPRM) is to update the Highway Safety Improvement Program (HSIP) regulations to address provisions in the Infrastructure Investment and Jobs Act (IIJA) (also known as the “Bipartisan Infrastructure Law” (BIL)) and reflect current priorities and state-of-practice. Specifically, FHWA proposes to amend the regulatory language to incorporate the Safe System Approach, clarify the scope of the HSIP to focus on the safety of all road users on the entire public road network, improve evaluation practices, streamline reporting efforts, and ensure States are collecting Model Inventory of Roadway Elements (MIRE) fundamental data elements. The proposed changes would clarify provisions regarding the planning, implementation, evaluation, and reporting of HSIPs that are administered in each State. These changes would further strengthen and advance the safety and equity priorities of the DOT National Roadway Safety Strategy (NRSS) and assist States with making safety gains designed to eliminate fatalities and serious injuries on the Nation's roads.

DATES: Comments must be received on or before April 22, 2024.

ADDRESSES: Mail or hand deliver comments to the U.S. Department of Transportation, Dockets Management Facility, 1200 New Jersey Avenue SE, Washington, DC 20590, or submit electronically at www.regulations.gov. All comments should include the docket number that appears in the heading of this document. All comments received will be available for examination and copying at the above address from 9 a.m. to 5 p.m., E.T., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit www.regulations.gov.

FOR FURTHER INFORMATION CONTACT: Ms. Karen Scurry, Office of Safety, (202) 897-7168, karen.scurry@dot.gov; or Mr. David Serody, Office of the Chief Counsel, (202) 366-4241, david.serody@dot.gov, Federal Highway Administration, 1200 New Jersey Avenue SE, Washington, DC 20590. Office hours are from 8:00 a.m. to 4:30 p.m., E.T., Monday through Friday, except Federal holidays.

SUPPLEMENTARY INFORMATION:

Electronic Access and Filing

You may submit or access all comments received by the DOT online through: www.regulations.gov. Electronic submission and retrieval help and guidelines are available on the website. It is available 24 hours each day, 365 days each year. Please follow the instructions. An electronic copy of this document may also be downloaded from the Federal Register's home page at: www.federalregister.gov.

Executive Summary

I. Purpose of the Regulatory Action

The FHWA proposes to update the HSIP regulations to reflect the changes to HSIP made in BIL (Pub. L. 117-58), further strengthen and advance the Department's safety and equity priorities consistent with the NRSS,¹ and assist States with making safety gains designed to eliminate fatalities and serious injuries on the Nation's roads. The Department recognizes that the current status of traffic fatalities in the United States is unacceptable ² and has adopted the Safe System Approach as the guiding paradigm to address roadway safety and achieve the goal of zero roadway fatalities and serious injuries in the NRSS.

¹ National Roadway Safety Strategy | U.S. Department of Transportation https://www.transportation.gov/NRSS.

² USDOT Releases New Data Showing That Road Fatalities Spiked in First Half of 2021 | NHTSA.

The Safe System Approach is a worldwide movement that has been in place for more than 30 years. The Safe System Approach requires a paradigm shift in how road safety is addressed for all users. Whereas traditional road safety strives to modify human behavior and prevent all crashes, the Safe System Approach refocuses transportation system design and operation on anticipating human mistakes and lessening impact forces on the human body to reduce crash severity and save lives. It is based on a shared responsibility and emphasizes that all stakeholders have a role to play in ensuring that crashes do not lead to fatal or serious injuries.

The HSIP is a key place to integrate the Safe System Approach as it sets the funding and policy tone for national roadway safety implementation efforts. Therefore, FHWA proposes updates to the HSIP regulation to include regulatory language to incorporate the Safe System Approach. The proposed changes are based on the opportunities identified in the NRSS and informational report on Integrating the Safe System Approach with the HSIP.³

³ Integrating The Safe System Approach With The Highway Safety Improvement Program: An Informational Report (dot.gov) FHWA-SA-20-018.

II. Summary of the Major Provisions of the Regulatory Action in Question

The purpose of this NPRM is to update the HSIP regulations to incorporate the Safe System Approach, clarify the scope of the HSIP to focus on the safety of all road users on the entire public road network, improve evaluation practices, streamline reporting efforts, and ensure States are collecting MIRE fundamental data elements. Specifically, this rulemaking proposes to amend FHWA's regulations to incorporate the Safe System Approach by revising the policy of the HSIP regulation to focus on advancing a Safe System Approach in support of the long-term goal to eliminate fatalities and serious injuries, emphasize how a State's Strategic Highway Safety Plan (SHSP) can support a Safe System Approach, clarify that a State's SHSP must include a vulnerable road user safety assessment in accordance with 23 U.S.C. 148(l), and require each State to conduct a systemwide safety risk assessment as part of its HSIP data analysis process. This rulemaking also proposes to clarify throughout the regulation that the HSIP applies to all public roads and for all road users and ensure a State's HSIP process meet legislative requirements, including those added by BIL. The FHWA also proposes to improve HSIP evaluation practices by requiring each State to establish a process to evaluate the effectiveness of data improvement activities for MIRE fundamental data elements and clarifying that HSIP evaluation shall include individual project evaluations, countermeasure evaluations, and program evaluations. To streamline HSIP reporting efforts, FHWA proposes to update the required content of the annual HSIP report to minimize duplication and focus on progress implementing highway safety improvement projects and the effectiveness of those projects. Finally, to ensure States are collecting the required MIRE fundamental data elements, FHWA proposes to require each State to submit MIRE fundamental data elements as part of their regular Highway Performance Monitoring System submittal beginning in 2026.

III. Costs and Benefits

In accordance with Executive Order (E.O.) 12866, Office of Management and Budget (OMB) guidance, and DOT guidance, FHWA evaluated this proposed rule for quantifiable costs, cost savings, and benefits. The FHWA anticipates increased data collection and reporting requirements will impose additional burden on State departments of transportation (States) as well as additional review burden by FHWA. The FHWA anticipates that cost savings to FHWA and States will result from changing the focus of the HSIP report.

In accordance with OMB guidance, FHWA estimated the costs and cost savings over a 10-year analysis period using both a 7 percent and a 3 percent discount rate.⁴ For the 10-year period from 2024 through 2033, FHWA estimated the costs of the proposed rule at $64.9 million, or $9.2 million on an annual basis, measured in 2022 dollars and using a 7 percent discount rate. If a 3 percent discount rate is used these costs are estimated at $70.3 million for the same 10-year period, or $8.2 million on an annual basis, measured in 2022 dollars. The FHWA also expects the proposed rule to have some cost savings. For the 10-year period from 2024 through 2033, FHWA estimated the cost savings of the proposed rule at $227,442, or $32,383 on an annual basis using a 7 percent discount rate. If a 3 percent discount rate is used, these cost savings are estimated at $276,230 for the same 10-year period, or $32,383 on an annual basis.

⁴ Office of Management and Budget. Circular A-4, Regulatory Analysis. 68 FR 58366, October 9, 2003.

Changes resulting from the proposed rule are expected to advance the purpose of the HSIP by increasing safety and resulting in fewer traffic-related injuries and fatalities. In accordance with OMB guidance, FHWA follows a break-even analysis approach to calculate the number of lives that need to be saved in each year for the benefits of the proposed rule to outweigh the costs. The break-even analysis concludes that a single life saved annually justifies the proposed rule.

A supporting analysis and a spreadsheet in the rulemaking docket (FHWA-2023-0045) contain additional details. The FHWA requests data and comments that could inform the economic analysis for this rulemaking, including any estimates of resulting benefits.

Background and Legal Authority

In 2020, an average of approximately 106 people lost their lives on roads in the U.S. every day.⁵ From 2011 to 2020, traffic fatalities in the U.S. increased by 20 percent nationally, representing the highest number of fatalities since 2007.⁶ At the same time, the number of non-motorist (pedestrians, pedalcyclists, and others) fatalities increased by 44 percent from 2011 to 2020.⁷ The number of people dying on U.S. roads is unacceptable. Through collective action from all roadway system stakeholders—from system managers and vehicle manufacturers to law enforcement and everyday users—we can move to a Safe System Approach that helps to anticipate human mistakes and keeps impact energy on the human body to tolerable levels, with the goal of eliminating fatalities and serious injuries for all road users.

⁵ National Highway Traffic Safety Administration (NHTSA), Fatality Analysis Reporting System (FARS) database, (2020 data based on FARS data publication, 1st release.) https://www-fars.nhtsa.dot.gov/Main/index.aspx.

⁶ NHTSA, Overview of Motor Vehicle Crashes in 2020. (2022, March). DOT HS 813 266 https://crashstats.nhtsa.dot.gov/Api/Public/ViewPublication/813266.

⁷ NHTSA, FARS database, (2020 data based on FARS data publication, 1st release.) https://www-fars.nhtsa.dot.gov/Main/index.aspx.

The Safe System Approach is a worldwide movement that has been in place for more than 30 years, and it involves a paradigm shift in how road safety is addressed. Whereas traditional road safety strives to modify human behavior and prevent all crashes, the Safe System Approach refocuses transportation system design and operation on anticipating human mistakes and lessening impact forces on the human body to reduce crash severity and save lives. It is based on a shared responsibility and emphasizes that all stakeholders have a role to play in ensuring that crashes do not lead to fatal or serious injuries. In line with DOT's and FHWA's top priority of safety, DOT and FHWA fully support the vision of zero deaths and serious injuries on the Nation's roadway system and have adopted the Safe System Approach as part of the NRSS. Implementing the Safe System Approach requires evaluating the current state-of-practice, evolving the approach for consistency, and institutionalizing the paradigm shift. The HSIP, which sets the funding and policy tone for national roadway safety implementation efforts, is a key place to start.

The HSIP is a core Federal-aid highway program with the purpose of achieving a significant reduction in fatalities and serious injuries on all public roads. See 23 U.S.C. 148(b)(2). The HSIP requires a data-driven strategic approach to improving highway safety on all public roads that focuses on performance. See 23 U.S.C. 148(c). The FHWA proposes to update the HSIP regulations to address provisions in BIL and reflect current priorities and state-of-practice. Specifically, FHWA proposes to incorporate the Safe System Approach, clarify the scope of a State's HSIP to focus on the safety of all road users on the entire public road network in support of the long-term goal to eliminate fatalities and serious injuries, include the vulnerable road user assessment as part of the State SHSP, improve evaluation practices, streamline reporting efforts, and ensure States are collecting MIRE fundamental data elements.

The FHWA's authority to administer the HSIP is provided in 23 U.S.C. 148. In addition, 23 U.S.C. 130 provides authority to fund the elimination of hazards of railway-highway crossings, and 23 U.S.C. 150 directs FHWA to establish performance measures and standards to ensure the effective administration of the Federal-aid highway program, including the HSIP. Section 150 of title 23, U.S.C., also requires each State to set and report on performance targets in relation to the performance measures developed by FHWA.

Section-by-Section Analysis

The proposed regulatory text follows the same format and section titles currently in 23 CFR part 924. The FHWA proposes changes in each section as follows.

Section 924.1 Purpose

The FHWA proposes to revise § 924.1 to state that the purpose of the regulation is to set forth requirements for the planning (instead of development) of a HSIP, as well as the requirements for the reporting of the HSIP in each State for consistency with the existing structure of the regulation.

Section 924.3 Definitions

The FHWA proposes to revise five definitions to provide clarity or consistency for each as related to the regulation.

The FHWA proposes to revise the definition for the term “Highway Safety Improvement Program (HSIP),” as used in part 924, to clarify that the purpose of the program is to significantly reduce fatalities and serious injuries, consistent with the statutory purpose of the program. See 23 U.S.C. 148(b)(2). The FHWA also proposes revisions to the HSIP definition to emphasize that these significant reductions should be continuous and that the program supports the long-term goal to eliminate such fatalities and serious injuries, consistent with the Safe System Approach principle that any deaths and serious injuries on public roads are unacceptable. States carry out the HSIP's purpose by funding projects each year that advance safety. The FHWA believes it is important to encourage States to continue to seek reductions in traffic fatalities and serious injuries year after year, which will support the ultimate goal of having zero fatalities and serious injuries.

To be clear, FHWA is not requiring that States eliminate all roadway fatalities and serious injuries, nor is FHWA proposing to hold States accountable for not eliminating all roadway fatalities and serious injuries. Instead, FHWA is emphasizing that achieving the national goal of a significant reduction in traffic fatalities and serious injuries on all public roads, which is the purpose of the HSIP, is ultimately a goal of reducing the incidence of fatalities and serious injuries to zero.

The FHWA also proposes to clarify that, consistent with 23 U.S.C. 148, the HSIP applies to all road users, in addition to all public roads. The existing regulation says this in some places but not all.

The FHWA proposes to revise the definition of “highway safety improvement project” to clarify that a highway safety improvement project includes strategies, activities or projects for all road users. While the definition of “highway safety improvement project” in 23 U.S.C. 148(a)(4) does not mention “all road users,” it does require that all highway safety improvement projects correct or improve a hazardous road location or feature or address a highway safety problem. The FHWA believes that hazardous roadway location and features and highway safety problems may impact the safety of any road user and, therefore, to achieve HSIP's purpose of significantly reducing fatalities and serious injuries, all road users need to be considered in the implementation of highway safety improvement projects.

The FHWA also proposes to revise this definition to ensure that highway safety improvement projects advance a Safe System Approach. The FHWA views the Safe System Approach, as defined further below, as a means to ensure that highway safety improvement projects correct or improve a high-risk road location or feature or address a highway safety need. See 23 U.S.C. 148(a)(4)(A).

After consultation with States, FHWA also proposes minor technical edits to the definition to replace “hazardous” with “high risk” and “safety problem” with “safety need”. Lastly, FHWA proposes to clarify that highway safety improvement projects include one or more of the projects listed in 23 U.S.C. 148(a)(4)(B). Section 148(e)(3)(C)(i) of title 23, U.S.C., requires “specified safety projects,” which are defined in 23 U.S.C. 148(a)(11), to meet all requirements under 23 U.S.C. 148 that apply to highway safety improvement projects. For clarity, when the term highway safety improvement project is used in this regulation, it refers to both highway safety improvement projects under 23 U.S.C. 148(a)(4) and specified safety projects under 23 U.S.C. 148(a)(11) as the same requirements apply to both.

The FHWA proposes to revise the definition of “railway-highway crossing protective device” to replace “track circuit improvements” in the current regulation with “track circuitry.” The current regulations suggest that “track circuit improvements” are an example of a system component associated with traffic control devices. The FHWA is making this revision to make clear that the component associated with traffic control devices is the track circuitry itself.

The FHWA proposes to revise the definition of “safety data” to clarify that it also applies to all road users, as reducing traffic fatalities and serious injuries through the use of safety data requires a consideration of all affected road users. The FHWA also proposes to clarify that safety data also includes crash and exposure data for non-motorized users consistent with 23 U.S.C. 148(c)(2)(A)(vi), which requires States to improve the collection of data on non-motorized crashes as part of their HSIP.

The FHWA proposes to revise the definition of “safety stakeholder” to include representatives from public health agencies and underserved communities. The FHWA proposes to include public health agencies to emphasize that road traffic crashes are not only a traffic safety problem, but also a public health problem. In the U.S., motor vehicle crashes are a leading cause of death, and kill approximately 106 people every day. Public health agencies have implemented various injury prevention programs and initiatives and their input would add value to the SHSP update process. The FHWA also proposes to include representatives from underserved communities to ensure that the needs of all road users are represented in the planning, implementation, and evaluation of the HSIP, where appropriate. As described in the National Roadway Safety Strategy, underserved communities such as racial minorities and communities with higher poverty rates suffer from disproportionately higher rates of roadway fatalities compared to the overall population.⁸ Including members of underserved communities within the definition of safety stakeholder aligns with the statutory requirements regarding the SHSP, including the requirements that it consider high-fatality segments of public roads and describe a program of strategies to reduce or eliminate safety hazards. See 23 U.S.C. 148(a)(13)(D) and (a)(13)(F).

⁸ National Roadway Safety Strategy, p. 7.

The FHWA further proposes to add seven new definitions of terms used in the revised regulation.

The FHWA proposes to add a definition for the term “non-motorized user” because it is used in several places throughout the existing regulation. The proposed definition is synonymous with the definition of “vulnerable road user” that was added by BIL at 23 U.S.C. 148(a)(15), which includes the types of road users described by the definitions for “number of non-motorized fatalities” and “number of non-motorized serious injuries” in 23 CFR 490.205, i.e., pedestrian, bicyclist, other cyclist, or person on personal conveyance.

The FHWA proposes to add a definition for the term “road user” because it would be used more frequently in the proposed updates to the regulation. The term “road user” is defined in 23 U.S.C. 148(a)(8) as “a motorist, passenger, public transportation operator or user, truck driver, bicyclist, motorcyclist, or pedestrian, including a person with disabilities.” The definition proposed for inclusion in § 924.3 substitutes the words “non-motorized user” for “pedestrian” and “bicyclist” because “non-motorized user,” as defined in this NPRM, is more inclusive of the full range of people who use the Nation's roads. The FHWA does not view the definition of “road user” in 23 U.S.C. 148(a)(8) as limiting the type of road users who the HSIP is supposed to benefit to the listed groups. Such an interpretation would mean that a program whose purpose is to achieve a significant reduction in traffic fatalities and serious injuries on all public roads would not necessarily consider certain types of individuals who may be involved in traffic fatalities and serious injuries. Instead, for the purpose of this regulation, FHWA is interpreting “bicyclist” and “pedestrian” as used in 23 U.S.C. 148(a)(8) as referring generally to “non-motorized users.” This interpretation will include non-motorized users, such as users of micromobility devices, who may not be considered “bicyclists” or “pedestrians” under strict readings of those terms but who are equally affected by highway safety problems. In addition, as noted above, BIL added the term “vulnerable road user” to 23 U.S.C. 148(a), and the proposed rule also uses the term “non-motorized user” synonymously with “vulnerable road user.” The FHWA believes that it is appropriate to interpret the statute's reference to “pedestrian” and “bicyclist” in 23 U.S.C. 148(a)(8) to include the full range of non-motorized road users because the definition of “road user” at 23 U.S.C. 148(a)(8) necessarily encompasses “vulnerable road user,” which includes pedestrians, bicyclists, and other non-motorized users.

The FHWA proposes to add a definition for the term “Safe System Approach.” As discussed above, the Safe System Approach aims to eliminate fatal and serious injuries for all road users through a holistic view of the road system that first, anticipates human mistakes and second, keeps impact energy on the human body at tolerable levels. Adopting the Safe System Approach provides a substantial opportunity to eliminate deaths and serious injuries on the Nation's roads and achieve the purpose of the HSIP. As stated in 23 U.S.C. 148(b)(2), the purpose of the HSIP is to “achieve a significant reduction in traffic fatalities and serious injuries on all public roads,” which, if successfully implemented over time, should lead to the elimination of fatalities and serious injuries on all public roads.

The FHWA believes that the Safe System Approach, as defined in the proposed rule, is a data-driven, holistic approach to safety that best achieves the HSIP's purpose. The FHWA's proposed definition aligns with the usage of that term in the NRSS, which describes an existing and widely understood approach to safety, rather than the definition of “Safe System approach” in 23 U.S.C. 148(a)(9), which refers to a type of roadway design for the purpose of the Vulnerable Road User Safety Assessment. The proposed definition of “Safe System Approach” in § 924.3, however, is not inconsistent with and would not impact the definition of “Safe System approach” in 23 U.S.C. 148(a)(9) for the purposes of conducting a Vulnerable Road User Safety Assessment.

Because FHWA is proposing to revise the definition of “highway safety improvement project” to include specified safety projects, FHWA proposes to add a definition for the term “specified safety project,” which would have the same meaning as that term is defined in 23 U.S.C. 148(a)(11).

The FHWA proposes to add a definition for the term “systemwide safety risk assessment.” This term would be incorporated into this regulation, as described in proposed changes to § 924.9. For the purposes of this regulation, the term systemwide safety risk assessment means a framework to assign risk ratings to all public roads considering primarily roadway characteristics, and other safety data and analysis results, as appropriate. The risk ratings shall classify all sections of the roadway network in no fewer than three categories according to their level of safety. The FHWA believes that a classification framework with at least three levels of safety is needed to provide a meaningful way for States to distinguish between different safety levels to support prioritization of projects that best improve safety. Such a framework is consistent with the requirements in 23 U.S.C. 148(c)(2)(B)(iv)-(v) that States have in place a safety data system that allows for the identification of highway safety improvement projects on the basis of crash experience, crash potential, crash rate, or other data-supported means so a State can consider which projects maximize opportunities to advance safety. It is also consistent with the requirements for the SHSP in 23 U.S.C. 148(a)(13)(B) to analyze and make effective use of State, regional, local, or Tribal safety data and section 148(a)(13)(D) to consider the safety needs of, and high-fatality segments of, all public roads. This classification framework may be as simple as high-medium-low, indicating the risk for potential future crashes, or a star rating system similar to the Roadway Safety Foundation's United States Road Assessment Program (usRAP),⁹ which uses a 5-star rating scale for roads, with 1-star indicating the highest risk. The FHWA welcomes feedback on the appropriate number of categories for the risk ratings.

⁹ usRAP | United States Road Assessment Program, http://www.usrap.org/.

The FHWA proposes to add a definition for the term “underserved communities” to emphasize the importance of equity in the HSIP. As discussed above and explained in the NRSS, underserved communities face disproportionate safety impacts. Eliminating traffic fatalities and serious injuries therefore requires a commitment to considering equity. The definition of “underserved community” is consistent with how that term is defined in E.O. 13985, “Advancing Racial Equity and Support for Underserved Communities Through the Federal Government.” ¹⁰

¹⁰ See E.O. 13985 of Jan. 20, 2021, Advancing Racial Equity and Support for Underserved Communities Through the Federal Government, § 2, 86 FR 7009.

The FHWA proposes to add the term “vulnerable road user safety assessment,” which adopts the definition of that term in 23 U.S.C. 148(a)(16). This is a new requirement under BIL and would be incorporated into this regulation in proposed changes to § 924.9.

The FHWA proposes to retain all other definitions unchanged.

Section 924.5 Policy

The FHWA proposes to revise paragraph 924.5(a) to state that “Each State shall plan [instead of develop], implement, evaluate, as well as report. . .” to mirror the structure of 23 CFR 924.9 through 924.15. The FHWA also proposes to require States to advance a Safe System Approach as part of the State's HSIP. The adoption of a Safe System Approach in State HSIPs supports the Department's NRSS key action to improve State strategic highway safety plans and ensure that State safety performance targets demonstrate constant or improved performance for each safety performance measure.¹¹ The FHWA views the Safe System Approach as the optimal approach to safety that can guide how States view safety throughout the HSIP.

¹¹ NRSS, p. 21.

In addition, FHWA proposes to revise the policy statement under paragraph (a) to emphasize that the objective of the State's HSIP supports the long-term goal to eliminate fatalities and serious injuries. The FHWA also proposes, for the reasons explained above, to clarify that the HSIP applies to all road users in addition to all public roads.

The FHWA proposes to revise paragraph (b) to clarify that HSIP funds shall be used, rather than should be used, to maximize opportunities to advance highway safety improvement projects that have the greatest potential to reduce the State's roadway fatalities and serious injuries. Under 23 U.S.C. 148(c)(2)(B)(v), States must consider which projects maximize opportunities to advance safety. At the same time, under 23 U.S.C. 148(c)(2)(C)(ii), States must adopt strategic and performance-based goals that focus resources on areas of greatest need. The FHWA interprets these provisions in unison as requiring States to focus resources on projects that maximize opportunities to advance safety.

In paragraph (c), FHWA proposes minor technical edits to the first sentence to clarify that the policy statement in this paragraph, which elaborates on the statement in 23 U.S.C. 148(e)(2)(B), applies to any other Federal-aid program and updates the title of the Surface Transportation Block Grant Program for consistency with the name used in current legislation.

The FHWA proposes a minor technical edit to paragraph (d) to clarify that Tribal and local jurisdictions are distinct categories of governmental entities.

Section 924.7 Program Structure

The FHWA proposes to redesignate existing paragraph 924.7(b) as paragraph (c) and inserting a new paragraph (b) that would clarify the relationship between the safety performance targets and performance-based goals in the SHSP. Specifically, the safety performance targets must align with and support the SHSP performance-based goals, as is currently required in 23 CFR 490.209(a).

In paragraph (c) (as redesignated), besides a minor technical edit, FHWA proposes to clarify in the first sentence that a State's HSIP must apply to all road users. Similar to what is stated above, FHWA believes that the purpose of the HSIP can only be carried out by addressing all road users, as traffic fatalities and serious injuries can occur to any road user. The FHWA also proposes to clarify that the State shall not only have HSIP processes, but those processes shall be documented and approved by the FHWA Division Administrator. The FHWA proposes this change to improve stewardship and oversight of the program. This proposed change is also consistent with the requirement for the Division Administrator to approve the SHSP update process pursuant to existing 23 CFR 924.9(a)(3)(iii).

Section 924.9 Planning

In paragraphs (a)(1) and (a)(2), FHWA proposes to add “and for all road users” to the end to clarify that the process for collecting safety data and advancing safety data collection efforts shall address all road users, in addition to all public roads. The HSIP requires a data-driven, strategic approach to improve highway safety on all public roads. The FHWA believes that this can only be achieved by considering data on all those who use public roads.

In paragraph (a)(1), FHWA proposes to add a new subparagraph structure (i) through (iii). Proposed paragraph (a)(1)(i) would require safety data to be able to differentiate between vulnerable road users other road users under subparagraph (i)(A), consistent with 23 U.S.C. 148(c)(2)(A)(vi), and also disaggregate safety data by demographic variables to support the inclusion of equity in the State's HSIP in subparagraph (i)(B).

Proposed paragraph (a)(1)(ii) would require States to collect any additional roadway data beyond the MIRE fundamental data elements, if necessary to support the proposed systemwide safety risk assessment. While States can conduct a systemwide risk assessment with the MIRE fundamental data elements and other asset-related data, other roadway data would add value to the process.

The language in proposed paragraph (a)(1)(iii) is unchanged from the existing rule.

The FHWA proposes various updates to the SHSP provisions in paragraph (a)(3). Under 23 U.S.C. 148(d)(1) and 148(d)(2)(B), FHWA is authorized to establish requirements for the contents of SHSP updates and State's processes for updating the SHSP.

In the introductory language to paragraph (a)(3) and in proposed paragraph (a)(3)(vi), FHWA proposes a minor technical edit to change “safety problem” to “safety need.” The FHWA also proposes to require the SHSP update to include a signature and effective date in paragraph (a)(3)(iv). The effective date would also be referenced in paragraph (a)(3)(i) to clarify that the timeline for updating the SHSP. Section 924.9(a)(3)(i) of 23 CFR currently requires that an SHSP update must be completed no later than 5 years from the date of the previous approved version. The FHWA believes that a reference to “5 years from the date of the previous approved version” is not clear, and FHWA is revising the text to clarify that an SHSP update must be completed no later than 5 years from the effective date of the previous approved version. To implement this change, FHWA is requiring that the SHSP update include an effective date, which FHWA is proposing to make in 23 CFR 924.9(a)(3)(iv). The FHWA is also proposing to require the signature of the Governor of a State or a responsible State official that is delegated by the Governor. The signature demonstrates approval as required by 23 U.S.C. 148(a)(13)(H), and including an effective date will enable better tracking of SHSP updates.

In proposed paragraph (a)(3)(v), FHWA proposes to clarify that the performance-based goals must be adopted for the duration of the SHSP. For example, if the SHSP covers a 5-year period, then the SHSP performance-based goals would also cover a 5-year period. Connecting the duration of performance-based goals to the duration of the overall SHSP is consistent with the requirement in 23 U.S.C. 148(a)(13)(B) for the SHSP to analyze and make effective use of State, regional, local, or Tribal safety data. In addition, the current provision only requires States to adopt performance-based goals that are consistent with safety performance measures established by FHWA in accordance with 23 U.S.C. 150 without acknowledging that SHSPs cover multiple years. The FHWA is proposing this revision to rectify this issue.

The FHWA proposes changes to paragraphs (a)(3)(vi) through (a)(3)(xi) to advance the Safe System Approach and ensure equity is addressed in SHSP updates. Specifically, in paragraph (a)(3)(vi) FHWA proposes to emphasize that the analysis and use of safety data also addresses safety needs and opportunities in underserved communities to ensure the safety needs of all road users are met. Ensuring that SHSP updates address the safety needs of underserved communities is necessary to implement 23 U.S.C. 148(d)(1)(B)(ii)-(iii), which require that SHSP updates take into consideration the locations of fatalities and serious injuries and locations that possess risk factors for potential crashes (regardless of whether there is a documented history of fatalities and serious injuries). Further, paragraph (a)(3)(vi) currently requires that an SHSP update must “[a]nalyze and make effective use of safety data to address safety problems and opportunities on all public roads and for all road users.” The FHWA is proposing this revision to highlight that “all road users,” as used in the current regulations, must necessarily include road users in underserved communities.

In paragraph (a)(3)(vii), FHWA proposes to require that SHSP emphasis areas and strategies are consistent with the Safe System Approach. A key aspect of the SHSP is that it evaluates highway safety holistically to identify which strategies and projects can best advance the goal of eliminating roadway fatalities and serious injuries. See 23 U.S.C. 148(a)(13)(C) (defining the SHSP, in part, as a plan that “addresses engineering, management, operation, education, enforcement, and emergency services elements . . . of highway safety as key factors in evaluating highway safety.”). This corresponds to the Safe System Approach's focus on holistically integrating the elements of safe road users, safe vehicles, safe speeds, safe roads, and post-crash care to reduce highway fatalities and serious injuries to zero. In addition, paragraph (a)(3)(vii) currently requires that an SHSP update must “[i]dentify key emphasis areas and strategies that have the greatest potential to reduce highway fatalities and serious injuries and focus resources on areas of greatest need.” The FHWA believes that the Safe System Approach provides the appropriate framework to determine what “greatest potential” and “greatest need” mean.

The FHWA proposes to add equity to the list of elements to address as a key feature in the identification of SHSP strategies in paragraph (a)(3)(viii). This will ensure that the SHSP considers the safety needs of all public roads and considers the results of State and regional planning processes, which must consider the needs of underserved communities. See 23 U.S.C. 148(a)(13)(D)-(E); 23 CFR 450.210(a)(1)(viii) and 450.316(a)(1)(vii).

The FHWA also proposes to add a new requirement under proposed paragraph (a)(3)(ix) for States to describe in the SHSP update how the SHSP supports a Safe System Approach. Pursuant to 23 U.S.C. 148(d)(1)(B)(viii), FHWA must ensure that States take into consideration, with respect to updated SHSPs, safety on all public roads. The FHWA is proposing to carry out this requirement, in part, by having States identify key emphasis areas and strategies that are consistent with a Safe System Approach and describing how the SHSP supports a Safe System Approach, as FHWA considers the Safe System Approach to be the optimal method for considering safety.

The FHWA proposes to add new paragraph (a)(3)(x) to include the vulnerable road user safety assessment as part of the State SHSP, consistent with 23 U.S.C. 148(a)(13)(G). The FHWA proposes to modify redesignated paragraph (a)(3)(xi) (current paragraph (a)(3)(ix)) to require public involvement as part of the SHSP update process. Public involvement would help ensure the needs of all road users are addressed in the SHSP update and, in accordance with 23 U.S.C. 148(a)(13)(I), ensure the SHSP is consistent with 23 U.S.C. 135(g), which includes a requirement for public involvement in the development of the Statewide Transportation Improvement Plan.

In redesignated paragraph (a)(3)(xii) (current paragraph (a)(3)(x)), FHWA proposes to separate Tribal from local governments since they are distinct units of government. The FHWA also proposes to clarify that the SHSP update shall provide strategic direction for not only other State, Tribal, and local plans as stated in the current regulation, but also programs such as the HSIP because the HSIP is a program, not a plan. The FHWA also proposes to add a Traffic Records Strategic Plan (TRSP) to the list of plans and programs for which the SHSP update provides strategic direction. A TRSP describes the desired future of the data systems a State uses to support data driven safety decisions and how to get there.¹² Many State SHSPs include a data emphasis area and include relevant strategies and actions that could be advanced through the TRSP. Including the TSRP in the list of plans that the SHSP must provide strategic direction to furthers the requirement in 23 U.S.C. 148(c)(2)(C) that a State HSIP advances the State's capabilities for safety data collection, analysis, and integration.

¹² NHTSA, State Traffic Records Coordinating Committee Strategic Planning Guide (2019), p. viii.

The FHWA proposes to relocate existing paragraph (a)(3)(xi) to § 924.11(c)(i) because it is more relevant to implementation. Proposed revisions to this language are discussed under the heading for § 924.11.

In paragraph (a)(4), FHWA proposes to require States to develop a process to conduct a systemwide safety risk assessment to implement 23 U.S.C. 148(c)(2)(B). That provision requires States to (i) identify hazardous locations, sections, and elements that constitute a danger to motorists, vulnerable road users, and other highway users; (ii) establish the relative severity of those locations; (iii) identify the number of fatalities and serious injuries on all public roads by location in the State; (iv) identify highway safety improvement projects on the basis of crash experience, crash potential, crash rate, or other data-supported means; and (v) consider which projects maximize opportunities to advance safety. Requiring a systemwide safety risk assessment aligns with 23 U.S.C. 148(c)(2)(B), as it would require States to assign risk ratings to all public roads after considering safety data. The systemwide safety risk assessment would allow States to establish a base level of safety performance for all roads (23 U.S.C. 148(c)(2)(B)(i), (iii)), develop safety infrastructure key performance indicators (23 U.S.C. 148(c)(2)(B)(ii)), and prioritize investments to improve safety through not only the State HSIP but all Federal-aid programs and projects (23 U.S.C. 148(c)(2)(B)(iv), (v)).

The FHWA also proposes to revise paragraph (a)(4)(i) to emphasize that the program of highway safety improvement projects would need to have the greatest potential to reduce fatalities and serious injuries on all public roads and for all road users, consistent with the Safe System Approach for similar reasons as described above for the proposed changes to § 924.5(b).

Consistent with changes described above for proposed paragraphs (a)(3)(vii) and (viii), FHWA also proposes adding a new statement to require that the program of highway safety improvement projects shall advance the Safe System Approach and address fatalities and serious injuries in underserved communities to advance equity.

The remainder of paragraph (a)(4) and paragraph (a)(5) remains unchanged.

In paragraph (a)(6), FHWA proposes revising existing item (i) to require States to consider which projects maximize the potential reduction of fatalities and serious injuries as part of their process for establishing priorities for implementing highway safety improvement projects consistent with 23 U.S.C. 148(c)(2)(B)(v). The FHWA also proposes removing existing item (iii), which currently requires States to consider SHSP priorities in their process for establishing priorities for implementing highway safety improvement projects because all projects must be consistent with the SHSP. This item is more related to eligibility than prioritization. Prioritization of highway safety improvement projects would be based on which projects maximize the potential reduction in fatalities and serious injuries and the cost effectiveness of the projects and the resources available.

Paragraphs (b) and (c) would remain unchanged.

Section 924.11 Implementation

Paragraphs (a), (e), and (f) would remain unchanged.

In paragraph (b), FHWA proposes to remove the requirement that States shall incorporate specific quantifiable and measurable anticipated improvements for the collection of MIRE fundamental data elements into their Traffic Records Strategic Plan by July 1, 2017, since the date for that requirement has passed. The FHWA also proposes to require each State to submit the MIRE fundamental data elements as part of their regular Highway Performance Monitoring System submissions, beginning after September 30, 2026, and continuing thereafter. The FHWA would expect each State to submit new data as it becomes available or on a schedule of the State's selection. There would be no expectation for States to update this data annually. This requirement would help FHWA ensure that States adopt and use the subset of MIRE fundamental data elements per 23 U.S.C. 148(f)(2)(B).

In paragraph (c), FHWA proposes to relocate and revise the requirement from existing § 924.9(a)(3)(xi) to be consistent with existing FHWA guidance and the current state-of-practice for the SHSP action plans.

In paragraph (d), FHWA proposes minor technical edits to better track the language in 23 U.S.C. 130(e)(2).

The FHWA proposes to add new paragraph (g) to encourage States to use the various options available to them to streamline delivery of highway safety improvement projects. It is imperative that highway safety improvement projects be completed in a timely manner to realize their benefits.

The FHWA also proposes to redesignate existing paragraph (g) as new paragraph (h) without change.

Section 924.13 Evaluation

Under § 924.13(a), FHWA proposes to add new subparagraph (a)(1) that requires a State's HSIP evaluation process to include a process to evaluate the effectiveness of data improvement activities for MIRE fundamental data elements. The FHWA proposes this requirement to address 23 U.S.C. 148(c)(2)(A)(ii), which requires the State's safety data system to evaluate the effectiveness of data improvement efforts. This provision would apply only to MIRE fundamental data elements since that is a specific requirement of the HSIP under 23 U.S.C. 148(f)(2)(B). States would be required to establish and track quantifiable measures related to data quality attributes of accuracy, completeness, timeliness, uniformity, accessibility, and integration.

The FHWA proposes minor technical modifications to what would be redesignated as paragraph (a)(2) (current paragraph (a)(1)) to clarify that a State must have processes for evaluating individual highway safety improvement projects and countermeasures, as well as a process for evaluating the program of highway safety improvement projects. This is not an additional requirement but a clarification of an existing one. The existing regulation requires that States have a process to analyze and assess the results achieved by the program of highway safety improvement projects; however, to assess and analyze the program of highway safety improvement projects, States must first assess and analyze the individual projects and countermeasures that make it up. This change is also consistent with current law, FHWA practice, and existing FHWA guidance. Per 23 U.S.C. 148(c)(2)(F) and 148(h)(1)(B), States must have an evaluation process to analyze and assess results achieved by highway safety improvement projects and assess the effectiveness of those projects as part of their annual HSIP report.

The FHWA proposes a minor technical modification to what would be redesignated as paragraph (a)(3)(i) (current paragraph (a)(2)(i)) to clarify that a State should be confirming the effectiveness of SHSP strategies as part of its process for updating the SHSP. Effective implementation of the SHSP requires a State to understand whether a particular strategy is working, or if it needs to be updated for future implementation.

Apart from minor technical edits, the remaining paragraphs in § 924.13 would remain unchanged.

Section 924.15 Reporting

The FHWA proposes the following changes to the content of the HSIP report.

In the introductory text to paragraph (a), rather than require the usage of a specific tool, FHWA proposes to change the reporting mechanism to a more general electronic template provided by FHWA. This gives FHWA the flexibility to use the existing HSIP online reporting tool, or another electronic means for States to submit reports if deemed more effective by FHWA.

In paragraph (a)(1), to minimize duplication with other HSIP documentation efforts, FHWA proposes to change the focus of the report to describe progress being made to implement the HSIP and the effectiveness of previously completed highway safety improvement projects. As such, FHWA proposes to remove paragraphs (a)(1)(i), which currently discusses the structure of the HSIP, and (a)(1)(ii), which currently discusses the progress in implementing highway safety improvement projects. This information would be captured in the HSIP process documentation under § 924.7(c) and, if applicable, the HSIP implementation plan under 23 U.S.C. 148(i)(2).

In redesignated paragraph (a)(1)(i)(A) (current paragraph (a)(1)(iii)(A)), FHWA proposes minor technical edits to remove the word “total” in the last sentence to clarify that a State must report the number of non-motorized fatalities and serious injuries separately because FHWA uses the serious injury data from the HSIP report to support the safety performance target assessment. This proposed change is also consistent with current reporting practice. The FHWA also proposes to require reporting information on fatalities and serious injuries for older drivers and pedestrians consistent with the special rule in 23 U.S.C. 148(g)(2) and existing paragraph (a)(1)(iii)(C).

The FHWA proposes to remove existing paragraphs (a)(1)(iii)(B) and (a)(1)(iii)(C). The safety performance targets previously reported under existing paragraph (a)(1)(iii)(B) would be reported separately with the other performance measures required under 23 CFR part 490. Consistent with current guidance, to carry out the special rules in 23 U.S.C. 148(g), FHWA only requires that States report information on the number of fatalities and serious injuries for non-motorized users and older drivers and pedestrians over the age of 65. By revising paragraph (a)(1)(i)(A) to require this information, existing paragraph (a)(1)(iii)(C) becomes redundant.

The FHWA proposes to add new paragraph (a)(1)(i)(B) that would require a State to discuss the progress made implementing the priorities and actions identified in the State's HSIP implementation plan under 23 U.S.C. 148(i)(2) for those States that did not meet or make significant progress toward meeting their safety performance targets.

The FHWA proposes to revise redesignated paragraph (a)(1)(ii) (current paragraph (a)(1)(iv)) to require States to report the results of individual projects, countermeasures, and program evaluations. States are currently required to report the results of countermeasure and program evaluations on an aggregated basis (i.e., groupings or similar types of highway safety improvement projects). This revision would also require States to report the results of individual project evaluations. While it is currently optional for States to report this information, nearly half of the States already do so, and, as noted above when discussing proposed changes to § 924.13(a)(2), all States are necessarily required to have processes in place for individual project evaluations. Under 23 U.S.C. 148(h), FHWA is responsible for establishing the content of State reporting on the effectiveness of States' HSIPs, including reporting on the effectiveness of projects funded under section 148, and making this reporting available to the public in the interests of transparency. Requiring States to report information for individual projects will help FHWA ensure States are meeting this requirement, emphasize the importance of monitoring the effectiveness of HSIP implementation efforts, and support national program evaluations.

The FHWA proposes to add new paragraph (a)(1)(iii) for States to report on results from the new provision in § 924.13(a)(1). Specifically, each State would be required to report quantifiable progress in the quality attributes of accuracy, completeness, timeliness, uniformity, accessibility, and integration of MIRE fundamental data elements.

Lastly, FHWA proposes to make technical amendments to paragraph (a)(1)(iv) to match the structure of revised paragraph (a)(1) and to correct an error in a statutory citation. The remaining provisions in § 924.15 would remain unchanged.

Section 924.17 MIRE Fundamental Data Elements

The FHWA proposes to add language to clarify the exception in 23 U.S.C. 148(k) to MIRE fundamental data element collection requirements, which states that, subject to the conditions of 23 U.S.C. 148(k)(1), “[a] State may elect not to collect fundamental data elements for the model inventory of roadway elements on public roads that are gravel roads or otherwise unpaved.” The FHWA also proposes to simplify the presentation of tables 1, 2, and 3 in the regulation. In general, the content in the tables would remain the same except for citation updates to reference MIRE Version 2.0, or the most current version.¹³

¹³ The FHWA may issue updates to MIRE between the time that this NPRM and a Final Rule are issued. The tables in the Final Rule will reference the most current version of MIRE at the time the Final Rule is issued. The FHWA does not anticipate that changes that may be made to MIRE as a result of any updates will have a substantive impact in terms of complying with 23 CFR part 924.

Rulemaking Analysis and Notices

Executive Order 12866 (Regulatory Planning and Review), Executive Order 13563 (Improving Regulation and Regulatory Review), and DOT Regulatory Policies and Procedures

The FHWA anticipates that the proposed rule will not be a significant regulatory action within the meaning of E.O. 12866, as amended by E.O. 14094 (“Modernizing Regulatory Review”), and DOT Rulemaking and Guidance Procedures in DOT Order 2100.6A (June 7, 2021). This action complies with E.O. 12866 and E.O. 13563 to improve regulation. The FHWA anticipates that the proposed rule would not have an annual effect on the economy of $200 million or more. The FHWA anticipates that the proposed rule would not adversely affect, in a material way, any sector of the economy, productivity, competition, jobs, the environment, public health or safety, or State, local, territorial, or Tribal governments or communities. In addition, these changes would not interfere with any action taken or planned by another agency and would not materially alter the budgetary impact of any entitlements, grants, user fees, or loan programs. The proposed rule also does not raise legal or policy issues for which centralized review would meaningfully further the President's priorities or the principles set forth E.O. 12866.

The following paragraphs summarize the economic analysis for this proposed rule. A supporting statement and a spreadsheet in the rulemaking docket (FHWA-2023-0045) contain additional details. The FHWA requests data and comments that could inform the economic analysis for this proposed rule, including any estimates of resulting benefits.

Table 1 summarizes the economic impacts of the proposed rule that were able to be quantified at this stage of the regulatory process. The quantifiable impacts are the costs and cost savings that the proposed rule would impose on States and on FHWA. The FHWA estimated the costs of the proposed rule at $64.9 million for the 10-year period, or $9.2 million on an annual basis, measured in 2022 dollars and using a 7 percent discount rate. If a 3 percent discount rate is used, these costs are estimated at $70.3 million for the same 10-year period, or $8.2 million on an annual basis, again measured in 2022 dollars. The FHWA estimated the cost savings of the proposed rule at $227,442, or $32,383 on an annual basis, measured in 2022 dollars and using 7 percent discounting. If a 3 percent discount rate is used, these cost savings are estimated at $276,230 for the same 10-year period, or $32,383 on an annual basis, again measured in 2022 dollars. Based on the estimated economic impacts and the other criteria for a significant regulatory action under § 3(f) of E.O. 12866, FHWA has preliminarily determined that this proposed rule would not be a significant regulatory action.

Table 1—Estimated Costs, Cost Savings, and Net Costs of the Highway Safety Improvement Program Proposed Rule
[2022 dollars]
Costs of the HSIP proposed rule (2022 dollars): Calendar year | Costs of the HSIP proposed rule (2022 dollars): Analysis period year | Costs of the HSIP proposed rule (2022 dollars): Costs | Costs of the HSIP proposed rule (2022 dollars): Cost savings | Costs of the HSIP proposed rule (2022 dollars): Net costs
2024 | 1 | $57,057,401 | $32,383 | $57,025,018
2025 | 2 | 108,615 | 32,383 | 76,232
2026 | 3 | 1,764,627 | 32,383 | 1,732,244
2027 | 4 | 108,615 | 32,383 | 76,232
2028 | 5 | 7,946,874 | 32,383 | 7,914,491
2029 | 6 | 108,615 | 32,383 | 76,232
2030 | 7 | 108,615 | 32,383 | 76,232
2031 | 8 | 108,615 | 32,383 | 76,232
2032 | 9 | 108,615 | 32,383 | 76,232
2033 | 10 | 7,946,874 | 32,383 | 7,914,491
Total to FHWA | 244,363 | 47,824 | 196,539
Total to State DOTs | 75,123,101 | 276,002 | 74,847,098
Undiscounted Total | 75,367,464 | 323,826 | 75,043,638
Total with 3% Discounting | 70,325,827 | 276,230 | 70,049,597
Total with 7% Discounting | 64,910,972 | 227,442 | 64,683,530
Average Annual (Undiscounted) | 7,536,746 | 32,383 | 7,504,364
Annualized, 3% Discount Rate, 10 Years | 8,244,332 | 32,383 | 8,211,950
Annualized, 7% Discount Rate, 10 Years | 9,241,862 | 32,383 | 9,209,479

The main purpose of the HSIP is to achieve significant reductions in traffic fatalities and serious injuries on public roads. Changes resulting from the proposed rule are expected to increase safety and result in fewer traffic related injuries and fatalities. In accordance with OMB Circular A-4, Regulatory Analysis (Sept. 17, 2003), FHWA follows a break-even analysis approach to calculate the number of annual lives that need to be saved for the benefits of the proposed rule to outweigh the costs. The break-even analysis concludes that a single life saved annually justifies the proposed rule.

Regulatory Flexibility Act

In compliance with the Regulatory Flexibility Act (Pub. L. 96-354, 5 U.S.C. 601-612), FHWA has evaluated the effects of this proposed rule on small entities and has determined that the action is not anticipated to have a significant economic impact on a substantial number of small entities. The proposed rule affects State governments, and State governments do not meet the definition of a small entity. Therefore, FHWA certifies that the action will not have a significant economic impact on a substantial number of small entities.

Unfunded Mandates Reform Act of 1995

The FHWA has evaluated this proposed rule for unfunded mandates as defined by the Unfunded Mandates Reform Act of 1995 (Pub. L. 104-4). The Unfunded Mandates Reform Act of 1995 (section 202(a)) requires us to prepare a written statement, which includes estimates of anticipated impacts, before proposing “any rule that includes any Federal mandate that may result in the expenditure by State, local, and Tribal governments, in the aggregate, or by the private sector, of $100,000,000 or more (adjusted annually for inflation) in any one year.” The current threshold after adjustment for inflation is $183 million, using the most current (2023) Implicit Price Deflator for the Gross Domestic Product. As part of this evaluation, FHWA has determined that this proposed rule would not result in the expenditure by State, local, and Tribal governments, in the aggregate, or by the private sector, of greater than $183 million or more in any 1 year (2 U.S.C. 1532).

Further, in compliance with the Unfunded Mandates Reform Act of 1995, FHWA will evaluate any regulatory action that might be proposed in subsequent stages of the proceeding to assess the effects on State, local, and Tribal governments and the private sector. In addition, the definition of “Federal Mandate” in the Unfunded Mandate Reform Act excludes financial assistance of the type in which State, local, or Tribal governments have authority to adjust their participation in the program in accordance with changes made in the program by the Federal Government. The Federal-aid highway program permits this type of flexibility.

Executive Order 13132 (Federalism)

This proposed action has been analyzed in accordance with the principles and criteria contained in E.O. 13132. The FHWA has determined that this proposed action would not have sufficient federalism implications to warrant the preparation of a federalism assessment. The FHWA has also determined that this proposed rulemaking would not preempt any State law or State regulation or affect the States' ability to discharge traditional State governmental functions.

Executive Order 13175 (Tribal Consultation)

The FHWA has analyzed this proposed action under E.O. 13175, dated November 6, 2000, and believes that it would not have substantial direct effects on one or more Indian Tribes; would not impose substantial direct compliance costs on Indian Tribal governments; and would not preempt Tribal law. Therefore, a Tribal summary impact statement is not required.

Executive Order 13211 (Energy Effects)

The FHWA has analyzed this proposed action under E.O. 13211, Actions Concerning Regulations That Significantly Affect Energy Supply, Distribution, or Use. The FHWA has determined that it is not a significant energy action under that order because it is not likely to have a significant adverse effect on the supply, distribution, or use of energy. Therefore, a Statement of Energy Effects under E.O. 13211 is not required.

Executive Order 12372 (Intergovernmental Review)

The regulations implementing E.O. 12372 regarding intergovernmental consultation on Federal programs and activities apply to this program. Local entities should refer to the Assistance Listing Number 20.205, Highway Planning and Construction, for further information.

Paperwork Reduction Act

Under the Paperwork Reduction Act of 1995 (PRA) (44 U.S.C. 3501 et seq.), Federal agencies must obtain approval from the Office of Management and Budget (OMB) prior to conducting or sponsoring a “collection of information” as defined by the PRA. The FHWA currently has OMB approval under “Highway Safety Improvement Programs” (OMB Control No. 2125-0025) to collect the information required by State's annual HSIP reports. The FHWA also has OMB approval under “Highway Performance Monitoring System (HPMS)” (OMB Control No. 2125-0028). The FHWA invites comments about the intention to request OMB approval for a new information collection to include the components required in this NPRM. Any action that might be contemplated in subsequent phases of this proceeding will be analyzed for the purpose of the PRA for its impact to this current information collection. The FHWA will submit the proposed collections of information to OMB for review and approval at the time the NPRM is issued and, accordingly, seeks comments.

Executive Order 12630 (Taking of Private Property)

The FHWA does not anticipate that this proposed action would affect a taking of private property or otherwise have taking implications under E.O. 12630, Governmental Actions and Interference with Constitutionally Protected Property Rights.

National Environmental Policy Act

The agency has analyzed this proposed action for the purpose of the National Environmental Policy Act of 1969 (42 U.S.C. 4321-4347) and has determined that it would not have any effect on the quality of the environment and meets the criteria for the categorical exclusion at 23 CFR 771.117(c)(20), which applies to the promulgation of regulations, and that no unusual circumstances are present under 23 CFR 771.117(b).

Executive Order 12898 (Environmental Justice)

The E.O. 12898 requires that each Federal Agency make achieving environmental justice part of its mission by identifying and addressing, as appropriate, disproportionately high and adverse human health or environmental effects of its programs, policies, and activities on minorities and low-income populations. The FHWA has determined that this proposed rule does not raise any environmental justice issues.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 924

Highway safety, Highways and roads, Motor vehicles, Railroads, Railroad safety, Safety, Transportation.

Shailen P. Bhatt,
Administrator, Federal Highway Administration.

For the reasons stated in the preamble, FHWA proposes to revise title 23, Code of Federal Regulations, part 924, as follows:

PART 924—HIGHWAY SAFETY IMPROVEMENT PROGRAM

1. The authority citation for part 924 continues to read as follows:

Authority: 23 U.S.C. 104(b)(3), 130, 148, 150, and 315; 49 CFR 1.85.

2. Revise § 924.1 to read as follows:

§ 924.1 Purpose.

The purpose of this regulation is to prescribe requirements for the planning, implementation, evaluation, and reporting of a Highway Safety Improvement Program (HSIP) in each State.

3. Amend § 924.3 by:

a. Revising the definitions of “Highway Safety Improvement Program (HSIP)”, and “Highway safety improvement project”;

b. Adding a definition of “Non-motorized user or vulnerable road user” in alphabetical order;

c. Revising the definition of “Railway-highway crossing protective devices”;

d. Adding the definitions of “Road user” and “Safe System Approach” in alphabetical order;

e. Revising the definition of “Safety data”;

f. In the definition of “Safety stakeholder”, redesignating paragraph (10) as paragraph (12) and adding paragraphs (10) and (11); and

g. Adding the definitions of “Specified safety project”, “Systemwide safety risk assessment”, “Underserved communities”, and “Vulnerable road user safety assessment” in alphabetical order.

The revisions and additions read as follows: § 924.3 Definitions.

* * * * *

Highway Safety Improvement Program (HSIP) means a State safety program with the purpose to significantly reduce fatalities and serious injuries on all public roads and for all road users, in support of the long-term goal to eliminate such fatalities and serious injuries, through the implementation of the provisions of 23 U.S.C. 130, 148, and 150, including the development of a data-driven Strategic Highway Safety Plan (SHSP), Railway-Highway Crossings Program, and program of highway safety improvement projects.

Highway safety improvement project means strategies, activities, or projects on a public road and for all road users that advance a Safe System Approach, are consistent with a State SHSP, either correct or improve a high risk road segment, location, or feature, or address a highway safety need, and are either (1) one or more of the projects listed in 23 U.S.C. 148(a)(4)(B) or (2) a specified safety project.

Non-motorized user or vulnerable road user means a pedestrian, bicyclist, other cyclist, or person on personal conveyance, consistent with the definition for the number of non-motorized fatalities and the number of non-motorized serious injuries in § 490.205 of this title.

* * * * *

Railway-highway crossing protective devices means those traffic control devices in the Manual on Uniform Traffic Control Devices (MUTCD) specified for use at such crossings; and system components associated with such traffic control devices, such as track circuitry and interconnections with highway traffic signals.

* * * * *

Road user means a motorist, passenger, public transportation operator or user, truck driver, motorcyclist, or non-motorized user, including a person with disabilities.

Safe System Approach means a data-driven, holistic approach to roadway safety that:

(1) Aims to eliminate death and serious injury for all road users;

(2) Anticipates and accommodates human errors;

(3) Keeps crash impact energy on the human body within tolerable levels;

(4) Proactively identifies safety risks in the system;

(5) Builds in redundancy through layers of protection so if one part of the system fails the other parts provide protection; and

(6) Shares responsibility for achieving zero roadway fatalities among all who design, build, manage, own, and use the system.

Safety data include, but are not limited to, crash, roadway characteristics, and traffic data on all public roads and for all road users. Safety data shall include crash and exposure data for non-motorized users. For railway-highway crossings, safety data also include the characteristics of highway and train traffic, licensing, and vehicle data.

Safety stakeholder means, but is not limited to:

* * * * *

(10) Representatives from public health agencies;

(11) Representatives from underserved communities; and

(12) Other Federal, State, Tribal, and local safety stakeholders.

Specified safety project has the same meaning as defined under 23 U.S.C. 148(a)(11).

* * * * *

Systemwide safety risk assessment means a framework to assign risk ratings to all public roads considering primarily roadway characteristics, and other safety data and analysis results, as appropriate. The risk ratings shall classify all sections of the roadway network in no fewer than three categories according to their level of safety.

* * * * *

Underserved communities mean populations sharing a particular characteristic, as well as geographic communities, that have been systematically denied a full opportunity to participate in aspects of economic, social, and civic life. Underserved communities include Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.

Vulnerable road user safety assessment means an assessment of the safety performance of the State with respect to vulnerable road users and the plan of the State to improve the safety of vulnerable road users as described in 23 U.S.C. 148(l).

4. Revise and republish § 924.5 to read as follows:

§ 924.5 Policy.

(a) Each State shall plan, implement, evaluate, and report on an annual basis an HSIP that advances a Safe System Approach and has the purpose to significantly reduce fatalities and serious injuries resulting from crashes on all public roads and for all road users, in support of the long-term goal to eliminate such fatalities and serious injuries.

(b) HSIP funds shall be used for highway safety improvement projects that are consistent with the State's SHSP. HSIP funds shall be used to maximize opportunities to advance highway safety improvement projects that have the greatest potential to reduce the State's roadway fatalities and serious injuries.

(c) Safety improvements should be incorporated into projects funded by all Federal-aid programs, such as the National Highway Performance Program (NHPP) and the Surface Transportation Block Grant (STBG) Program. Safety improvements that are provided as part of a broader Federal-aid project should be funded from the same source as the broader project.

(d) Eligibility for Federal funding of projects for traffic control devices under this part is subject to a State, Tribal, or local jurisdiction's substantial conformance with the National MUTCD or FHWA-approved State MUTCDs and supplements in accordance with part 655, subpart F, of this chapter.

5. Amend § 924.7 by revising paragraph (b) and adding paragraph (c) to read as follows:

§ 924.7 Program structure.

* * * * *

(b) Part 490, subpart B of this chapter establishes national performance management measures for the purposes of carrying out the HSIP. The safety performance targets established under § 490.209 of this chapter shall align with and support the performance-based goals established for the SHSP in this section.

(c) The HSIP shall address all public roads and all road users in the State. The HSIP shall document separate processes for the planning, implementation, and evaluation of the HSIP components described in paragraph (a) of this section. These documented processes shall be developed by the State and approved by the FHWA Division Administrator in accordance with this section and the requirements of 23 U.S.C. 148. Where appropriate, the processes shall be developed in consultation with other safety stakeholders and officials of the various units of local and Tribal governments.

6. In § 924.9 revise and republish paragraph (a):

§ 924.9 Planning.

(a) The HSIP planning process shall incorporate:

(1) A process for collecting and maintaining safety data on all public roads and for all road users.

(i) Safety data shall:

(A) Differentiate between vulnerable road users, including bicyclists, motorcyclists, and pedestrians, from other road users.

(B) Be disaggregated by demographic variables to support the inclusion of underserved communities in the State's Highway Safety Improvement Program.

(ii) Roadway data shall include:

(A) The MIRE Fundamental Data Elements as established in § 924.17; and

(B) Any additional elements necessary to support a systemwide safety risk assessment.

(iii) Railway-highway crossing data shall include all fields from the U.S. DOT National Highway-Rail Crossing Inventory.

(2) A process for advancing the State's capabilities for safety data collection and analysis by improving the timeliness, accuracy, completeness, uniformity, integration, and accessibility of their safety data on all public roads and for all road users.

(3) A process for updating the SHSP that identifies and analyzes highway safety needs and opportunities in accordance with 23 U.S.C. 148. A SHSP update shall:

(i) Be completed no later than 5 years from the effective date of the previous approved version;

(ii) Be developed by the State DOT in consultation with safety stakeholders;

(iii) Provide a detailed description of the update process. The update process must be approved by the FHWA Division Administrator;

(iv) Be approved, including signature and effective date, by the Governor of the State or a responsible State agency official who is delegated by the Governor;

(v) Adopt performance-based goals for the duration of the SHSP that:

(A) Are consistent with safety performance measures established by FHWA in accordance with 23 U.S.C. 150; and

(B) Are coordinated with other State highway safety programs;

(vi) Analyze and make effective use of safety data to address safety needs and opportunities on all public roads and for all road users, including in underserved communities;

(vii) Identify key emphasis areas and strategies that are consistent with a Safe System Approach, have the greatest potential to reduce fatalities and serious injuries on all public roads, and focus resources on areas of greatest need;

(viii) Address engineering, management, operations, education, enforcement, emergency services, and equity elements of highway safety as key features when determining SHSP strategies;

(ix) Describe how the SHSP supports a Safe System Approach;

(x) Include a vulnerable road user safety assessment;

(xi) Consider the results of State, regional, local, and Tribal transportation and highway safety planning processes; demonstrate mutual consultation among safety stakeholders; and consider input from public involvement (as defined in § 450.210 of this chapter) in the development of transportation safety plans; and

(xii) Provide strategic direction for other State, Tribal, and local transportation plans and programs, including but not limited to the HSIP, the Highway Safety Plan, the Commercial Vehicle Safety Plan, and the Traffic Records Strategic Plan.

(4) A process for analyzing safety data and conducting a systemwide safety risk assessment to:

(i) Develop a program of highway safety improvement projects, in accordance with 23 U.S.C. 148(c)(2), that has the greatest potential to reduce fatalities and serious injuries on all public roads and for all road users through the implementation of a comprehensive program of systemic and spot safety improvement projects. The program of highway safety improvement projects shall also advance the Safe System Approach and address fatalities and serious injuries in underserved communities.

(ii) Develop a Railway-Highway Crossings program that:

(A) Considers the relative risk of public railway-highway crossings based on a hazard index formula;

(B) Includes onsite inspection of public railway-highway crossings; and

(C) Results in a program of highway safety improvement projects at railway-highway crossings giving special emphasis to the statutory requirement that all public crossings be provided with standard signing and markings.

(5) A process for conducting engineering studies (such as road safety audits and other safety assessments or reviews) to develop highway safety improvement projects.

(6) A process for establishing priorities for implementing highway safety improvement projects that considers:

(i) Which projects maximize the potential reduction in fatalities and serious injuries; and

(ii) The cost effectiveness of the projects and the resources available.

* * * * *

7. Amend § 924.11 by:

a. Revising paragraph (b);

b. Revising and republishing paragraphs (c) and (d);

c. Redesignating paragraph (g) as paragraph (h); and

d. Adding new paragraph (g).

The revisions and addition read as follows:

§ 924.11 Implementation.

* * * * *

(b) Each State shall have a complete collection of the MIRE fundamental data elements on all public roads by September 30, 2026. Starting after September 30, 2026, and continuing thereafter, each State shall submit the MIRE fundamental data elements as part of their regular Highway Performance Monitoring System submittal to FHWA.

(c) The SHSP shall include or be accompanied by actions that address how the SHSP emphasis area strategies will be implemented. This includes a description of the related actions or projects, agency responsible for implementing each action, potential resources, and timeframe for implementing the strategies in each emphasis area.

(d) Funds set-aside for the Railway-Highway Crossings Program under 23 U.S.C. 130 shall be used to implement railway-highway crossing safety projects on any public road. If a State demonstrates that it has met all its needs for installation of protective devices at railway-highway crossings to the satisfaction of the FHWA Division Administrator, the State may use funds made available under 23 U.S.C. 130 for other Highway Safety Improvement Program purposes pursuant to the special rule in 23 U.S.C. 130(e)(2).

* * * * *

(g) States should use timesaving procedures, such as project bundling, indefinite delivery/indefinite quantity contracting (part 635, subpart F of this chapter), and other methods approved by FHWA to streamline HSIP project delivery. States and other Federal funding recipients can also use agency force account procedures (part 635, subpart B of this chapter) if they can demonstrate it is more cost effective than competitive bidding.

(h) Except as provided in 23 U.S.C. 120 and 130, the Federal share of the cost of a highway safety improvement project carried out with funds apportioned to a State under 23 U.S.C. 104(b)(3) shall be 90 percent.

8. Amend § 924.13 by:

a. Redesignating paragraphs (a)(1) and (2) as paragraphs (a)(2) and (3), respectively, and adding new paragraph (a)(1);

b. Revising newly redesignated paragraph (a)(2) and (a)(3)(i); and

c. Revising the introductory text to paragraph (b).

The revisions and addition read as follows:

§ 924.13 Evaluation.

(a) * * *

(1) A process to establish and track quantifiable measures to evaluate the effectiveness of data improvement activities to improve accuracy, completeness, timeliness, uniformity, accessibility, and integration for MIRE fundamental data elements.

(2) A process to analyze and assess the results achieved by individual highway safety improvement projects, countermeasures, and the program of highway safety improvement projects in terms of contributions to improved safety outcomes and the attainment of safety performance targets established as per 23 U.S.C. 150.

(3) An evaluation of the SHSP as part of the regularly recurring update process to:

(i) Confirm the validity of the emphasis areas and effectiveness of strategies based on analysis of current safety data; and

* * * * *

(b) The information resulting from paragraph (a)(2) of this section shall be used:

* * * * *

9. Amend § 924.15 by revising the introductory text to paragraphs (a) and paragraph (a)(1) to read as follows:

§ 924.15 Reporting.

(a) For the period of the previous reporting year, each State shall submit to the FHWA Division Administrator no later than August 31 of each year, the following reports related to the HSIP in accordance with 23 U.S.C. 148(h) and 130(g) using an electronic template provided by FHWA:

(1) A report describing the progress being made to implement the HSIP and the effectiveness of completed highway safety improvement projects. The report shall:

(i) Describe the progress in achieving safety outcomes and performance targets. This section shall:

(A) Provide an overview of general highway safety trends. General highway safety trends shall be presented by number and rate of fatalities and serious injuries on all public roads by calendar year, and to the maximum extent practicable, shall also be presented by functional classification and roadway ownership. General highway safety trends shall also be presented for the number of fatalities and serious injuries for non-motorized users and older drivers and pedestrians over the age of 65; and

(B) Discuss the progress made implementing the priorities and actions identified in the State's HSIP implementation plan under 23 U.S.C. 148(i)(2), if applicable.

(ii) Assess the effectiveness of the improvements. This section shall describe the effectiveness of individual highway safety improvement projects, countermeasures, and program of highway safety improvement projects previously implemented under the HSIP.

(iii) Report quantifiable progress in the quality attributes of accuracy, completeness, timeliness, uniformity, accessibility, and integration for the MIRE fundamental data elements.

(iv) Be compatible with the requirements of section 508 of the Rehabilitation Act of 1973, as amended (29 U.S.C. 794d).

* * * * *

10. Amend § 924.17 by revising the introductory text and Tables 1, 2, and 3 to read as follows:

§ 924.17 MIRE fundamental data elements.

The MIRE fundamental data elements shall be collected on all public roads, as listed in Tables 1, 2, and 3 of this section, except as noted in 23 U.S.C. 148(k). For the purpose of MIRE fundamental data elements applicability, the term “open to public travel” shall be consistent with the definition in § 460.2(c) of this chapter.

Table 1—MIRE Fundamental Data Elements for Non-Local ¹ Paved Roads
MIRE name ² | Roadway segment | Intersection | Interchange/ ramp
Annual Average Daily Traffic (AADT) ³ ⁴ | X | X |
AADT Year ³ ⁴ | X | X |
Access Control ³ | X |  |
Begin Point Segment Descriptor ³ | X |  |
End Point Segment Descriptor ³ | X |  |
Direction of Inventory | X |  |
Federal Aid/Route Type ³ | X |  |
Functional Class ³ | X |  | X
Interchange Type |  |  | X
Intersection/Junction Geometry |  | X |
Intersection/Junction Traffic Control |  | X |
Location Identifier for Road 1 Crossing Point |  | X |
Location Identifier for Road 2 Crossing Point |  | X |
Location Identifier for Roadway at Beginning Ramp Terminal |  |  | X
Location Identifier for Roadway at Ending Ramp Terminal |  |  | X
Median Type | X |  |
Number of Through Lanes ³ | X |  |
One/Two-Way Operations ³ | X |  |
Ramp AADT ³ |  |  | X
Ramp Length |  |  | X
Roadway Type at Beginning Ramp Terminal |  |  | X
Roadway Type at Ending Ramp Terminal |  |  | X
Route Number ³ | X |  |
Route/street Name ³ | X |  |
Rural/Urban Designation ³ | X |  |
Segment Identifier | X |  |
Segment Length ³ | X |  |
Surface Type ³ | X |  |
Type of Governmental Ownership ³ | X |  | X
Unique Approach Identifier (for each approach) |  | X |
Unique Interchange Identifier |  |  | X
Unique Junction Identifier |  | X |
Year of Ramp AADT ³ |  |  | X
¹ Based on functional classification.
² Model Inventory of Roadway Elements—MIRE, Version 2.0, Report No. FHWA-SA-17-048, July 2017, https://rosap.ntl.bts.gov/view/dot/49568.
³ Existing Highway Performance Monitoring System element.
⁴ For each intersecting road.

Table 2—MIRE Fundamental Data Elements for Local ¹ Paved Roads
MIRE name ² | Roadway segment
AADT ³ | X
Begin Point Segment Descriptor ³ | X
End Point Segment Descriptor ³ | X
Functional Class ³ | X
Number of Through Lanes ³ | X
Rural/Urban Designation ³ | X
Segment Identifier | X
Surface Type ³ | X
Type of Governmental Ownership ³ | X
¹ Based on Functional Classification.
² Model Inventory of Roadway Elements—MIRE, Version 2.0, Report No. FHWA-SA-17-048, July 2017, https://rosap.ntl.bts.gov/view/dot/49568.
³ Existing Highway Performance Monitoring System element.

Table 3—MIRE Fundamental Data Elements for Unpaved Roads
MIRE name ¹ | Roadway segment
Begin Point Segment Descriptor ² | X
End Point Segment Descriptor ² | X
Functional Class ² | X
Segment Identifier | X
Type of Governmental Ownership ² | X
¹ Model Inventory of Roadway Elements—MIRE, Version 2.0, Report No. FHWA-SA-17-048, July 2017, https://rosap.ntl.bts.gov/view/dot/49568.
² Existing Highway Performance Monitoring System element.

[FR Doc. 2024-02831 Filed 2-20-24; 8:45 am]

BILLING CODE 4910-22-P